DEPARTMENT OF AGRICULTURE

Office of Civil Rights

Notice of Intent To Seek Approval To Collect Information

AGENCY: Office of Civil Rights, USDA:

ACTION: Notice and request for comments.

SUMMARY: In accordance with the Paperwork Reduction Act of 1995 (Pub. L. 104-13) and the Office of Management and Budget (OMB) regulations at 5 CFR part 1320, this notice announces the Office of Civil Rights' (CR) intention to request approval for a new information collection aimed at standardizing race, ethnicity, sex, national origin, disability status, and age data across the Department. The establishment of such a collection will assist the United States Department of Agriculture (USDA) agencies in improving program services and benefits. USDA continues to seek ways to improve delivery of program services and benefits, fulfill various civil rights responsibilities, and increase participation for those who are eligible to receive benefits and assistance.

DATES: Comments on this notice must be received by August 23, 2004.

FOR FURTHER INFORMATION CONTACT: Requests for additional information or comments regarding this notice should be directed to Mr. Joe McNeil, Office of Civil Rights, U.S. Department of Agriculture, 1400 Independence Ave., SW., Room 331-W, Washington, DC 20250; e-mail; Joe.mcneill@Usda.go, telephone: (202) 720-0438.

SUPPLEMENTARY INFORMATION: Title: Customer Information.

OMB Number: 0503-NEW.

Expiration Date: Three years from date of issuance.

Type of Request: New Collection.

Abstract: The purpose of the collection is to standardize the collection of race, ethnicity, sex, national origin, disability status, and age data for all USDA agencies, and to further ensure that this information is collected only once for each customer. When established, this information will assist the Office of Civil Rights and USDA agencies in monitoring programs and will be the basis for several different reports required by statute.

Background: The civil rights policy of the USDA requires each agency to analyze the civil rights impact(s) of policies, actions, or decisions that will affect federally conducted the federally assisted programs and activities and the USDA workforce. In order to assesses the civil rights impact, data on programs, activities, and employment must be analyzed in a consistent manner with respect to the race, ethnicity, sex, national origin, disability status, and age of customers, applicants, and participants. Currently, no uniform method of reporting and tabulating race and ethnicity data exits in USDA. There are 17 program agencies each with a potential array of program applicants and participants. The collection of data is necessary to provide each agency, and the USDA as a whole, with the composition of its customers, particularly from a race and ethnicity standpoint. Further, data is necessary to give USDA a baseline on its applicants and participants and assist it in planning and assisting its customers. The goal of a comprehensive USDA collection of race, ethnicity, sex, national origin, disability status, and age data is to reduce the burden on citizens to provide this type of information by creating a single voluntary survey transaction where the data is collected, one time in a standard format. For subsequent transactions where this information is needed to provide services or improve program participation, the Department will reuse the data previously collected.

This Information Collection Request is intended, over a three-year period, to consolidate a number of agency collections of race, ethnicity, sex, national origin, disability status, and age data and to minimize the number of separate forms and transactions required to obtain USDA services, thereby reducing the burden in collecting this information from the public. When collected manually, a paper form will be used in conjunction with the appropriate program application form as a tear-off where the application for services will be transmitted to the appropriate agency for action, and the paper form will be transmitted to a Departmental repository to be used in subsequent customer transactions and for applicable Civil Rights analysis and reporting. Data from the paper form will be entered electronically into the Departmental repository. When collected electronically, the data will reside in an enterprise customer repository that will collect and track customer information. While the demographic data would be available for management reporting purposes and a flag would graphically indicate to USDA employees that the information had been previously collected, no direct employee access to the data would be provided. As required by the Privacy Act, existing customer data Systems of Record will be modified or created if applicable.

Estimate of Burden: For the initial collection of race, ethnicity, sex, national origin, disability status, and age information, the estimated burden is 3 minutes per response. The burden is the same whether collected manually through a Departmental form or collected electronically as a customer enters the USDA.gov web portal. Estimated Total Annual Burden on Respondents: The Department estimates there are 36,655,000 customers subject to the collection of race, ethnicity, sex, national origin, disability status, and age data. Based on an estimated 3 minutes response time, the estimated annual burden is 1,832,750 hours. The breakdown by customer group is provided below.

Customer type | Estimated number ¹
Producers | 2,200,000
Agribusiness and Cooperatives | 100,000
Low-Income Families and Individuals | 20,000,000
Children and Caregivers | 55,000
Rural Communities and Businesses | 2,000,000
Researchers and Academic Community | 1,300,000
Landowners and Conservationists | 10,000,000
Total | 36,655,000
¹ Data obtained from the Audience Analysisdocument prepared in support of the eGovernment Web Presence initiative.

Comments: Comments are invited on (a) Whether the proposed collection of information is necessary for the proper performance of the functions of the Department, including whether the information will have practical utility as described; (b) the accuracy of the Agency's estimate of burden of the proposed collection of information, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Vernon B. Parker,
Assistant Secretary for Civil Rights.

[FR Doc. 04-14193 Filed 6-22-04; 8:45 am]

BILLING CODE 3410-98-M